DEPARTMENT OF COMMERCE

International Trade Administration

[A-570-890]

Wooden Bedroom Furniture From the People's Republic of China: Final Results of the Expedited Third Sunset Review of the Antidumping Duty Order

AGENCY: Enforcement and Compliance, International Trade Administration, Department of Commerce.

SUMMARY: As a result of this expedited sunset review, the Department of Commerce (Commerce) finds that revocation of the antidumping duty (AD) order on wooden bedroom furniture from the People's Republic of China (China) would likely lead to continuation or recurrence of dumping at the levels indicated in the “Final Results of Sunset Review” section of this notice.

DATES: Applicable May 6, 2022.

FOR FURTHER INFORMATION CONTACT: Krisha Hill, AD/CVD Operations, Office IV, Enforcement and Compliance, International Trade Administration, U.S. Department of Commerce, 1401 Constitution Avenue NW, Washington, DC 20230; telephone: (202) 482-4037.

SUPPLEMENTARY INFORMATION:

Background

After publication of the notice of initiation of this sunset review of the AD order on wooden bedroom furniture from China,1 2 pursuant to section 751(c) of the Tariff Act of 1930, as amended (the Act), domestic interested parties ³ filed with Commerce a timely and complete notice of intent to participate in the sunset review.⁴ Also, the domestic interested parties timely filed an adequate substantive response with Commerce.⁵ Commerce did not receive a substantive response from any respondent interested party. As a result, pursuant to section 751(c)(3)(B) of the Act and 19 CFR 351.218(e)(1)(ii)(C)(2), Commerce conducted an expedited (120-day) sunset review of the Order.⁶

¹ See Initiation of Five-Year (Sunset) Reviews, 87 FR 76 (January 3, 2022).

² See Notice of Amended Final Determination of Sales at Less Than Fair Value and Antidumping Duty Order: Wooden Bedroom Furniture from the People's Republic of China, 70 FR 329 (January 4, 2005) (Order).

³ The domestic interested parties are the American Furniture Manufacturers Committee for Legal Trade (Committee) and Vaughan-Bassett Furniture Company, Inc. The Committee is an ad hoc association of the following eight producers of wooden bedroom furniture: (1) Caperton Furnitureworks, LLC dba Gat Creek and Tom Seely Furniture; (2) Carolina Furniture Works, Inc.; (3) Century Furniture, LLC; (4) Johnston-Tombigbee Furniture Mfg. Co.; (5) L. & J.G. Stickley, Inc.; (6) Perdues Inc.; (7) T. Copeland & Sons, Inc.; and (8) Vaughan-Bassett Furniture Company, Inc.

⁴ See Domestic Interested Parties' Letter, “Five-Year (“Sunset”) Review of Antidumping Duty Order On Wooden Bedroom Furniture from the People's Republic of China: Notice Of Intent To Participate In Sunset Review,” dated January 14, 2022.

⁵ See Domestic Interested Parties' Letter, “Five-Year (“Sunset”) Review of Antidumping Duty Order On Wooden Bedroom Furniture from the People's Republic of China: Domestic Industry Substantive Response,” dated January 31, 2022 (Substantive Response).

⁶ For a complete description of the background of this sunset review of the Order, see Memorandum, “Issues and Decision Memorandum for the Expedited Third Sunset Review of the Antidumping Duty Order on Wooden Bedroom Furniture from the People's Republic of China,” dated concurrently with, and hereby adopted by, this notice (Decision Memorandum).

Scope of the Order

The product covered by the Order is wooden bedroom furniture, subject to certain exceptions. Imports of subject merchandise are classified under the Harmonized Tariff Schedule of the United States (HTSUS) subheadings: 9403.50.9042, 9403.50.9045, 9403.50.9080, 9403.90.7005, 9403.90.7080, 9403.50.9041, 9403.60.8081, 9403.20.0018, 9403.90.8041, 7009.92.1000 or 7009.92.5000. Although the HTSUS subheadings are provided for convenience and customs purposes, the written product description in the order remains dispositive. For a complete description of the scope of the Order, see the Decision Memorandum.

Analysis of Comments Received

A complete discussion of all issues raised in this sunset review, including the likelihood of continuation or recurrence of dumping in the event of revocation of the Order and the magnitude of the dumping margins likely to prevail if the Order were revoked, is provided in the Decision Memorandum. A list of the sections in the Decision Memorandum is in the appendix to this notice. The Decision Memorandum is a public document and is on file electronically via Enforcement and Compliance's Antidumping and Countervailing Duty Centralized Electronic Service System (ACCESS). ACCESS is available to registered users at http://access.trade.gov. In addition, a complete version of the Decision Memorandum can be accessed on the internet at https://access.trade.gov/public/FRNoticesListLayout.aspx.

Final Results of Sunset Review

Pursuant to sections 751(c)(1), 752(c)(1) and (3) of the Act, Commerce determines that revocation of the Order would likely lead to continuation or recurrence of dumping, and that the magnitude of the dumping margins likely to prevail are weighted-average dumping margins up to 198.08 percent.

Administrative Protective Orders

This notice also serves as the only reminder to parties subject to administrative protective order (APO) of their responsibility concerning the return or destruction of proprietary information disclosed under APO in accordance with 19 CFR 351.305. Timely notification of the return or destruction of APO materials, or the conversion to judicial protective order, is hereby requested. Failure to comply with the regulations and terms of an APO is a violation which is subject to sanction.

Notification to Interested Parties

We are issuing and publishing these results and notice in accordance with sections 751(c), 752(c), and 777(i)(1) of the Act, and 19 CFR 351.218 and 19 CFR 351.221(c)(5)(ii).

Dated: May 2, 2022.
Lisa W. Wang,
Assistant Secretary for Enforcement and Compliance.

Appendix

Sections in the Issues and Decision Memorandum

I. Summary

II. Background

III. Scope of the Order

IV. History of the Proceeding

V. Legal Framework

VI. Discussion of the Issues

1. Likelihood of Continuation or Recurrence of Dumping

2. Magnitude of the Margin of Dumping Likely to Prevail

VII. Final Results of Sunset Review

VIII. Recommendation

[FR Doc. 2022-09811 Filed 5-5-22; 8:45 am]

BILLING CODE 3510-DS-P